DEPARTMENT OF EDUCATION

[Docket No.: ED-2023-SCC-0095]

Agency Information Collection Activities; Submission to the Office of Management and Budget for Review and Approval; Comment Request; Evaluation of the REL Midwest Teaching Fractions Toolkit

AGENCY: Institute of Education Sciences (IES), Department of Education (ED).

ACTION: Notice.

SUMMARY: In accordance with the Paperwork Reduction Act (PRA) of 1995, the Department is proposing a new information collection request (ICR).

DATES: Interested persons are invited to submit comments on or before September 5, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Felicia Sanders, 202-245-6264.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the REL Midwest Teaching Fractions Toolkit.

OMB Control Number: 1850-NEW.

Type of Review: A new ICR.

Respondents/Affected Public: Individuals and Households.

Total Estimated Number of Annual Responses: 206.

Total Estimated Number of Annual Burden Hours: 187.

Abstract: The U.S. Department of Education is supporting the development and evaluation of a toolkit that supports the implementation of effective grade 6 fractions instruction based on the evidence-based recommendations in the Developing Effective Fractions Instruction for Kindergarten Through 8th Grade practice guide. The evaluation will rigorously test the efficacy of the toolkit in improving teacher self-efficacy and practices for fraction computation and rate and ratio instruction as well as student learning outcomes in grade 6 mathematics. The evaluation will use a blocked randomized controlled trial design in which schools within each district or within each block of similar schools will be randomly assigned to receive the toolkit. The evaluation will be conducted in 40 Illinois schools during the 2024/25 school year.

The evaluation will focus on measuring the toolkit's impact on three key outcomes: teacher self-efficacy for fraction computation and rate and ratio instruction, classroom practice for fraction computation and rate and ratio instruction, and students' ability to solve fraction computation and rate and ratio problems.

In addition to collecting data to measure teacher and student outcomes, the evaluation team will collect data to document the implementation of the toolkit in treatment schools and the service contrast between treatment and control schools and to describe the characteristics of participating schools, teachers, and students at baseline.

The evaluation will produce a publicly available report that summarizes evaluation findings. The findings from the evaluation will inform further refinement of the toolkit, to be released to the public after the evaluation.

Dated: August 1, 2023.
Stephanie Valentine,
PRA Coordinator, Strategic Collections and Clearance, Governance and Strategy Division, Office of Chief Data Officer, Office of Planning, Evaluation and Policy Development.

[FR Doc. 2023-16681 Filed 8-3-23; 8:45 am]

BILLING CODE 4000-01-P